DEPARTMENT OF AGRICULTURE

Forest Service

North Fork of Pound Natural Gas Development Project, Clinch Ranger District, Wise County, VA

AGENCY: Forest Service, USDA.

ACTION: Notice of intent to prepare an environmental impact statement.

SUMMARY: The federal government proposes to approve exploration and development of a federal oil and gas lease on Pine Mountain above North Fork of Pound Lake in Wise County, Virginia. This proposed action is in response to the Notice of Staking (NOS) the federal government has received from the lessee, Equitable Production Company. The proposed gas wells and associated roads and pipelines are to be located on the Clinch Ranger District of the George Washington and Jefferson National Forests.

DATES: Comments concerning the scope of the analysis must be received by August 19, 2002. The draft environmental impact statement (DEIS) is expected in September 2003 and the final environmental impact statement (FEIS) is expected in March 2004.

ADDRESSES: Send written comments to District Ranger Sten Olsen, Clinch Ranger District, 9416 Darden Drive, Wise Virginia 24293.

FOR FURTHER INFORMATION CONTACT: District Ranger Sten Olsen, Clinch Ranger District, 9416 Darden Drive, Wise, Virginia 24293/(276)-328-2931.

SUPPLEMENTARY INFORMATION: Congress established the federal oil and gas-leasing program under which oil and gas leases are issued to, and developed by, private enterprise. In 1984, the federal government issued federal oil and gas lease VAES-32510 covering 4,836 acres of federal land in the North Fork Pound area of Wise County, Virginia. The federal lease was issued for the purpose of exploration and development of oil and gas on the Clinch Ranger District of the George Washington and Jefferson National Forests. The holder of the lease (lessee) has the right to access the area, and occupy as much of the surface as is reasonable and necessary in order to explore and develop the mineral resource.

The lessee, Equitable Production Company, has filed with the USDA, Forest Service; and the Department of the Interior (DOI), Bureau of Land Management (BLM), a NOS to drill multiple gas wells, thereby fulfilling the purpose of federal lease, VAES-32510. The NOS is a preliminary step, which facilitates the selection of acceptable drilling locations by the lessee, the Forest Service, and the BLM prior to the submission of the Application for Permit to Drill (APD). The federal government must approve an APD before a lessee could build roads, drill wells, or otherwise occupy the surface of the lease. Both the Forest Service and the BLM have specific authority related to the APD approval. The federal government is required to make a timely decision on approving and issuing an APD to construct roads and well pads, drill wells, and install pipelines.

Since 1990, production from a private well located adjacent to the leased lands has been allocated to a small portion of federal lease. VAES-32510. While the federal lease has been held by production from this private well, the lessee now plans to develop natural gas field on the much larger, remaining portion of the leased tract.

The proposed gas well development is an energy project requiring an expedited review by the Departments of the Interior and Agriculture in accordance with Executive Order 13212. In addition, the Energy Security Act of 1980 directs the Secretary of Agriculture to process applications fro leases and permits to explore, drill and develop resources on National Forest System lands, notwithstanding of the current status of the Land and Resource Management Plan (Forest Plan). This means that the Forest Service must process the applications for these permits regardless of the current status of the Revision of the Jefferson Forest Plan.

The proposed action is the approval of multiple APDs to drill 21 wells, construct 11 miles of road, and install 12 miles of pipeline. Most of the pipeline corridors will be located along the 11 miles of road corridor. About one mile of pipeline corridor would not be along the road corridor, but would be within the boundary of the lands within the lease. Each well pad will initially require a 1.5-acre clearing. Once production is obtained, each well pad will be reduced in size to one-half acre, and the remainder of the original well pad will be reclaimed. When natural gas production ceases, wells will be plugged and the well pads and any unnecessary facilities will be reclaimed.

The following permits or licenses would be required to implement the proposed action: Application for Permit to Drill; DOI Bureau of Land Management, and Permit to Drill; Virginia Department of Mines, Minerals & Energy.

No significant ground-disturbing management activities have occurred in the vicinity since coming under Forest Service management in 1983. Nearly all of the proposed gas development occurs within the North Fork of Pound Roadless Area (NFPRA). The NFPRA was identified as a roadless area in 1997 as part of the roadless inventory for the Jefferson Forest Plan revision process. The Roadless Area Conservation Initiative recognizes existing rights, and provides for development of current leases, along with associated roads necessary for access.

The preliminary alternatives to be considered include the proposed action and the no-action alternative. The cumulative effects section of the EIS for the subject 21 well projects will also consider the cumulative effects from a separate proposal involving the exercise of private oil and gas rights under the federal surface of U.S. tract J-1352d. This tract is located just west of the lands covered by federal oil and gas lease VAES-32510. The exercise of these private oil and gas rights, which were reserved at the time the United States acquired the lands, are subject to 1963 Secretary of Agriculture's Rules and Regulations. Development of the private rights would result in the drilling of 4 wells and the construction of about 13,500 feet of access roads and pipelines. A portion of the proposed road construction would occur in the western part of the NFPRA in an area where the federal government does not own the oil and gas rights.

Public comments received during a previous analysis of the North Fork of Pound Opportunity Area tentatively identified the following preliminary issues:

Issue 1. The roads, pipelines and well pads associated with this project may negatively impact the North Fork of Pound Roadless Area's qualifications for Congressional Wilderness designation.

Issue 2. The roads, pipelines and well pads associated with this project may increase sedimentation in North Fork of Pound Lake, a municipal water supply for the town of Pound.

Issue 3. The roads, pipelines and well pads associated with this project may negatively impact the visual quality of the area, especially in Forest Service developed recreation sites at North Fork of Pound Lake.

This notice is to inform the public of the proposed action and invite the public to participate by providing any comments or information they may have concerning the proposal. This information will be used to identify important issues and determine the extent of the analysis necessary to make an informed decision on the proposal. Such issues will assist in the formulation of additional alternatives and the development of mitigation measures necessary to reduce impacts. To allow us to better consider comments, please make them as specific as possible to the proposed action.

A DEIS will be prepared for comment. The comment period on the DEIS will be 45 days from the date the Environmental Protection Agency publishes the notice of availability in the Federal Register.

At this early stage, the Forest Service believes it is important to give reviewers notice of several court rulings related to public participation in the environmental review process. First, reviewers of DEISs must structure their participation in the environmental review of the proposal so that it is meaningful and alerts an agency to the reviewer's position and contentions. Vermont Yankee Nuclear Corp. v. NRDC, 435 U.S. 519, 533 (1978). Also, environmental objections that could be raised at the DEIS stage but that are not raised until after completion of the FEIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

The Forest Service is the lead agency for managing surface use of the project vicinity during and after development. The Forest Service is the lead agency for the environmental analysis. The BLM will be a cooperating agency.

Federal oil and gas lease VAES-32510 was issued in 1984. The federal decision now ripe is now to implement the lease through approval of APDs for oil and gas lease operations. The federal decision includes decisions about proposed locations of roads, oil and gas wells, and other facilities, as well as about Conditions of Approval to mitigate or reduce environmental impacts. The decision to be made by the Forest Service is whether to approve the surface use plan of operations (SUPO) part of the APD's. The BLM decision is whether to approve the drilling plans. Once the BLM has received the Forest Service approval of the SUPO's, and the Conditions of Approval, they will issue the actual APD's.

The Regional Forester will decide which mitigation measures and monitoring requirements to include with the surface use plan of operations in the APD's.

The Responsible Official for Forest Service is Robert T. Jacobs, Regional Forester—Southern Region; 1720 Peachtree Road NW., Atlanta, GA 30309. The Responsible Official for the BLM is Bruce E. Dawson, Field Manager, Jackson Field Office, 411 Briarwood Drive, Suite 404, Jackson, MS 39206.

Authority: 40 CFR 1501.7 and 1508.22; Forest Service Handbook 1909.15, Section 21.

Dated: July 10, 2002.
Eurial Turner,
Deputy Regional Forester for Operations.

[FR Doc. 02-17949 Filed 7-19-02; 8:45 am]

BILLING CODE 3410-11-M